DEPARTMENT OF AGRICULTURE

Forest Service

Notice of New Fee Site; Federal Lands Recreation Enhancement Act, (Title VIII, Pub. L. 108-447)

AGENCY: Willamette National Forest, USDA Forest Service

ACTION: Notice of New Fee Site.

SUMMARY: The Willamette National Forest is proposing recreation fees at six recreation sites. The Willamette National Forest proposes a $5/day fee for the use of facilities at three day use sites: Hackleman Old Growth Grove, Hardesty Trailhead, and McCredie Picnic Area. Two campgrounds have proposed fees: Alder Springs Campground at $10/night and Indigo Springs Campground at $12/night. For overnight use of a backcountry shelter, the Willamette National Forest proposes a nightly fee of $80 during the summer season and a per person fee of $7/night during the winter season. Funds from recreation fees will be used for the continued operation and maintenance of these sites and associated trails. These fees are only proposed and will be determined upon further analysis and public comment.

DATES: Send any comments about these fee proposals by December 1, 2016 so comments can be compiled, analyzed and shared with a Recreation Resource Advisory Committee. Fees may be implemented May, 2017.

ADDRESSES: Tracy Beck, Forest Supervisor, Willamette National Forest, 3106 Pierce Parkway, Suite D, Springfield, OR, 97477

FOR FURTHER INFORMATION CONTACT: Matt Peterson, Recreation Program Manager, 541-225-6421 or email WillametteRecFeeComments@fs.fed.us

SUPPLEMENTARY INFORMATION: The Federal Recreation Lands Enhancement Act (Title VII, Pub. L. 108-447) directed the Secretary of Agriculture to publish a six month advance notice in the Federal Register whenever new recreation fee areas are established.

This new fee proposal will be reviewed by a Recreation Resource Advisory Committee prior to a final decision and implementation.

Mountain View Shelter will be available for overnight rental. The proposed fee differs by season: a nightly fee of $80.00 during the summer season and a per person fee of $7.00/night during the winter season. Backcountry shelter rentals offer a unique experience and are a popular offering on National Forests. The shelter is not currently available for use during the spring, summer and fall season. In winter, the shelter is currently first come-first served yet often fills to capacity, causing visitors to ski or trek back to their vehicles. Reservations would enable visitors to plan ahead and know whether they will have a space in the shelter. The cabin offers views and a place for Nordic skiers to stay overnight or warm up during the day. Activities nearby include winter skiing, hiking and hunting. Access to the site in the winter is only by skis and by vehicle during the rest of the year. Fees will be used to maintain and operate the shelter.

Indigo Springs Campground is currently a free site, with three campsites. Each campsite has a fire ring, picnic table, with garbage service and a vault restroom on-site. This campground is surrounded by a stand of old growth Douglas-fir and is close to the Middle Fork Trail. The springs for which the camp was named is nearby and can be enjoyed by walking an easy, 500 foot round-trip loop trail. Interpretive signs explain the role of the nearby historic Oregon Central Military Wagon Road and the role of the bull trout in the regional watershed ecosystem. The proposed fee is $12.00/night a campsite, and $6.00 per each additional vehicle per campsite.

Alder Springs Campground is currently a free site, with six campsites. The campground is co-located with the Linton Lake Trailhead, which has an existing $5/day recreation fee. Campers currently use many of the same amenities as day users plus have the added benefit of their campsite, yet do this for free. The proposed fee addresses this inequity and is $10.00 for overnight camping, with a $5.00/night extra vehicle fee. This small, rustic campground is surrounded by towering Douglas fir trees. It is located on historic McKenzie Pass Highway (Hwy 242) about 90 minutes east of Eugene and provides easy access into the Three Sisters Wilderness.

The Hardesty Trailhead is located on Highway 58, about 30 miles southeast of the Eugene/Springfield metropolitan area. It was redeveloped in 2014, adding a vault restroom, picnic tables, hitching posts, and interpretation. It is a low elevation trailhead, providing year-round access to the Hardesty Trail and the South Willamette Trail, which provide access to the Goodman Creek and Eula Ridge trails. These trails are very popular with hikers, mountain bikers, and equestrians.

McCredie Picnic Area is located on Highway 58, about 10 miles east of the Oakridge, OR. It was redeveloped in 2014, adding a vault restroom, picnic tables, and interpretation. With picnic areas in view of the Salt Creek and trails to the water's edge, the easily accessible site provides a pleasant stopping point for travelers along Highway 58.

Hackleman Old Growth Grove, located along Highway 20 about 39 miles east of Sweet Home, OR, has on-site interpretation, picnic tables, restrooms, and a fully accessible trail that travels through an old-growth grove of Douglas Fir trees.

The proposed fee for Hardesty Trailhead, McCredie Picnic Area, and Hackleman Old Growth Grove is $5/day. Recreation passes, such as the Northwest Forest Pass, would also be accepted. Fees would help maintain and operate these sites, including adding garbage service.

Dated: August 15, 2016.
Tracy Beck,
Willamette National Forest Supervisor.

[FR Doc. 2016-20291 Filed 8-25-16; 8:45 am]

BILLING CODE 3411-15-P